DEPARTMENT OF THE INTERIOR

Bureau of Reclamation

[INT-DES-02-23].

City of Albuquerque Drinking Water Project, New Mexico

AGENCY: Bureau of Reclamation, Interior.

ACTION: Notice of availability and notice of public hearings for the draft environmental impact statement for the City of Albuquerque drinking water project.

SUMMARY: Pursuant to the National Environmental Policy Act (NEPA) of 1969 (as amended), the Department of the Interior, Bureau of Reclamation (Reclamation), as lead agency, and the City of Albuquerque (City), as co-lead agency, have prepared a draft environmental impact statement (DEIS) for the City of Albuquerque Drinking Water Project. The U.S. Army Corps of Engineers is a cooperating agency. The project is the main component of the Albuquerque Water Resources Management Strategy, adopted by the City Council, which aims to efficiently use existing water resources and develop a safe and sustainable water supply for City residents to the year 2060. The proposed alternatives provide a means of action through which the City would fully consumptively use the City's San Juan-Chama Project water to provide a sustainable water supply.

DATES: A 60-day public review period commences with the publication of this notice. Written comments on the DEIS are due by August 13, 2002, and should be submitted to Lori Robertson at the address given below. Public hearings to receive oral and/or written comments from interested individuals and organizations on the environmental impacts of the proposal will be held during the month of July in Albuquerque, Socorro, and Espanõla, New Mexico. The public hearings schedule is as follows:

• July 2, 2002—6 p.m. to 9 p.m. (local time) at the Albuquerque Convention Center, Brazos Room, 401 2nd Street, Albuquerque, New Mexico.

• July 9, 2002—6 p.m. to 9 p.m. (local time) at the Macey Hall, New Mexico Tech Campus, 801 Leroy Place, Socorro, New Mexico.

• July 10, 2002—6 p.m. to 9 p.m. (local time) at the City Council Chambers, 405 Paseo del Oñate, Espanõla, New Mexico.

ADDRESSES: Written comments on the DEIS should be addressed to Lori Robertson, Bureau of Reclamation, Albuquerque Area Office, 505 Marquette, NW., Suite 1313, Albuquerque, New Mexico 87102; faxogram (505) 248-5356; e-mail: lrobertson@uc.usbr.gov. Our practice is to make comments, including names and home addresses of respondents, available for public review. Individual respondents may request that we withhold their home address from public disclosure, which we will honor to the extent allowable by law. If you wish us to withhold your name and/or address, you must state this prominently at the beginning of your comment. We will make all submissions from organizations or businesses, and from individuals identifying themselves as representatives or officials of organizations or businesses, available for public disclosure in their entirely.

The document is available on the Internet at www.uc.usbr.gov. We encourage you to review the DEIS on-line or at the locations listed below. You may request a copy of the document by contacting Rick Billings, Parsons Engineering Science, Inc., 3150 Carlisle Blvd., N.E., Suite 205, Albuquerque, New Mexico 87110; telephone (505) 889-4525.

Copies of the DEIS are available for public review and inspection at the following locations:

• City of Albuquerque Public Works Department, 500 Marquette, N.W., City/County Building, Albuquerque, New Mexico 87102.

• Bureau of Reclamation, Upper Colorado Regional Office, 125 South State Street, Room 6107, Salt Lake City, Utah 84138-1102.

• Bureau of Reclamation, Albuquerque Area Office, 505 Marquette, N.W., Suite 1313, Albuquerque, New Mexico 87102.

• Local Government Division, Attention: Ken Hughes, Bataan Memorial Building, Room 201, Santa Fe, New Mexico 87503.

• Parsons Engineering Science, Inc., 3150 Carlisle Blvd., N.E., Suite 205, Albuquerque, New Mexico 87110.

Libraries

Albuquerque Public Library, Reference Desk, Main Library, 501 Copper, N.E., Albuquerque, New Mexico

North Valley Public Library, Reference Desk, 7704 2nd Street, N.W., Albuquerque, New Mexico

South Broadway Public Library, Reference Library, 1205 Broadway, S.E., Albuquerque, New Mexico

Cherry Hills Public Library, Reference Library, 6901 Barstow, N.E., Albuquerque, New Mexico

Socorro Public Library, 401 Park Street, Socorro, New Mexico Espanõla Public Library, 921 Paseo del Norte, Espanõla, New Mexico

Santa Fe Public Library, 145 Washington Avenue, Santa Fe, New Mexico

FOR FURTHER INFORMATION CONTACT: Lori Robertson, Bureau of Reclamation, Albuquerque Area Office, 505 Marquette, NW., Suite 1313, Albuquerque, New Mexico 87102, telephone (505) 248-5326 or John Stomp, City of Albuquerque, Public Works Department, PO Box 1293, Albuquerque, New Mexico 87103, telephone (505) 768-3631.

SUPPLEMENTARY INFORMATION: The City proposes to construct and operate a surface water diversion on the Rio Grande, with associated water treatment and transmission facilities, to fully consumptively use the City's San Juan-Chama water to provide a sustainable drinking water supply for its citizens. The proposed project, referred to as the City's Drinking Water Project, would entail four elements: (1) Diverting surface water from the Rio Grande, (2) transporting the raw water to a new water treatment plant, (3) treating the raw water to drinking water standards, and (4) distributing the treated, potable water to customers in the City's water service area. The Drinking Water Project is the most significant aspect of the Albuquerque Water Resources Management Strategy for purposes of ensuring a sustainable water supply.

The project would use the City's allocation of its San Juan-Chama water (48,200 acre-feet per year) to be supplied through existing San Juan-Chama Project facilities. After transit losses to Albuquerque, the amount available for full use would approximate 47,000 acre-feet per year. A total of approximately 94,000 acre-feet per year, consisting of 47,000 acre-feet per year of the City's San Juan-Chama water and 47,000 acre-feet per year of native Rio Grande surface water, would be diverted from the Rio Grande near Albuquerque and conveyed to a new water treatment plant for treatment. After the City's San Juan-Chama water is fully consumed, the native Rio Grande water, about half of the 94,000 acre-feet per year, would be returned to the Rio Grande following treatment at the City's Southside Water Reclamation Plant.

The Santa Fe Group aquifer, the aquifer underlying the Albuquerque metropolitan area, is currently the City's sole source of water. Continued reliance on groundwater as the sole source of supply is not sustainable. The proposed project provides a sustainable water supply through full use of renewable surface supplies, reduces the demand on the aquifer, and restores it as a drought reserve. Demand on the aquifer would be reduced by approximately 94,000 acre-feet per year. The proposed project also includes a conjunctive use component by using San Juan-Chama water in an aquifer storage and recovery project.

Current and projected water demands would not be met without the proposed project. The aquifer would continue to be mined and could not serve as a drought reserve. The long-term effects on the aquifer from groundwater extraction would have serious consequences for Albuquerque and other users in the metropolitan area and throughout the Middle Rio Grande. Environmental consequences from continued and increased pumping from the aquifer likely would include large groundwater level declines, land-surface subsidence, and water quality degradation. The proposed project also represents a viable way for the City to satisfy Environmental Protection Agency promulgated arsenic standards under the Safe Drinking Water Act. The project would combine treated San Juan-Chama surface water that is low in arsenic with groundwater that has higher background levels.

Public process and participation in the selection and ranking of alternatives for the Drinking Water Project, and ultimately for analysis in this DEIS, has been extensive. Commencing in 1995 and continuing through the present, the City has held over 100 public meetings for purposes of presenting, analyzing, ranking, and/or selecting alternatives. Pursuant to compliance with NEPA, the identification of environmental issues and concerns, and development of potential mitigation and environmental enhancements, has been a primary focus of the City throughout the course of the development of the Drinking Water Project and the alternatives for implementation.

Public and agency scoping and involvement continued with agency scoping workshops conducted in December 1998. Three formal public scoping meetings were held during September 1999, one each in the cities of Albuquerque, Socorro, and Espanola, New Mexico. Eighteen interagency workgroup meetings have been completed to solicit input from federal, state, City, and Pueblo entities. Numerous public meetings to present status reports and obtain input also have been undertaken to review the water treatment plant location and Drinking Water Project alternatives-selection process. A Town Hall meeting was held in April 2001 to present a preferred alternative.

Over the course of six years, the City conducted a comprehensive evaluation process that incorporated public and agency input into the development of the Drinking Water Project as part of the City's Albuquerque Water Resources Management Strategy. As a result of this extensive public process, three action alternatives and the No Action Alternative were selected for further evaluation of environmental and socioeconomic consequences in the DEIS. The four alternatives retained for detailed analysis are:

(1) No Action, or continued reliance on groundwater resources to meet current and projected drinking water demand, and continuation of conservation measures;

(2) The diversion and full consumptive use of the City's San Juan-Chama water via the existing Angostura Diversion Dam (a Middle Rio Grande Project facility) on the Rio Grande, with conveyance of raw water to a new water treatment plant via two existing Middle Rio Grande Project conveyance facilities, and distribution of treated, potable water to consumers in the Albuquerque metropolitan area;

(3) The diversion and full consumptive use of the City's San Juan-Chama water at a new surface diversion dam to be constructed on the Rio Grande north of Paseo del Norte in Albuquerque, with conveyance of raw water to a new water treatment plant via a new pipeline, and distribution of treated, potable water to consumers in the Albuquerque metropolitan area; and

(4) The diversion and full consumptive use of the City's San Juan-Chama water via a new subsurface diversion to be constructed in the Rio Grande near Paseo del Norte, with conveyance of raw water to a new water treatment plant via a new pipeline, and distribution of treated, potable water to consumers in the Albuquerque metropolitan area.

The following project components would be common to each of the action alternatives:

• A new water treatment plant,

• A potable water distribution pipeline system and associated storage facilities, and

• Aquifer storage and recovery.

The Chappell Drive water treatment plant would treat the raw water diverted from the Rio Grande to meet or exceed federal and state standards for municipal drinking water. The proposed water treatment plant would have a treatment capacity of 92 million gallons per day, or 142 cubic feet per second. The potable water transmission pipeline alignment would distribute treated water via pipelines from the water treatment plant to the City's customers. The selected piping transmission corridors would permit optimum use of existing hydraulic gradients and existing City water distribution lines. Aquifer storage and recovery would occur by injection of treated potable water into a number of City wells during low demand periods and would later be recovered by groundwater pumping.

Proposed Federal Action

The federal actions requiring NEPA compliance are: (1) Issuance of a license by Reclamation to the City for the location of project facilities on Reclamation-owned property or right-of-way, or approval of a license between the City and the Middle Rio Grande Conservancy District for the location of facilities on a right-of-way held by Reclamation over property owned by the Middle Rio Grande Conservancy District; (2) execution of a water carriage contract authorizing use of federal irrigation canals to convey non-project water (this action would be required only if there would be diversion of the City's San Juan-Chama Project water at the Angostura Diversion Dam and conveyance of the water through existing facilities of the Middle Rio Grande Project). Special legislation would be needed to authorize carriage of non-project water for municipal and industrial purposes through Middle Rio Grande Project facilities; and (3) Clean Water Act Section 404 permitting from the U.S. Army Corps of Engineers in conjunction with construction of project facilities in waters of the United States. The U.S. Fish and Wildlife Service and the Environmental Protection Agency will provide consultation and review pursuant to their respective statutory authority under the Endangered Species Act, Clean Water Act, and NEPA.

Hearing Process Information: An open house will begin at 6 p.m. followed by an informal question and answer period at 6:30 p.m. The formal public hearings will begin at 7 p.m. A question and answer period before the hearing serves to assist the public in focusing their comments on the DEIS and issues related to it. The question and answer period will not be part of the formal hearing record. Oral comments at the hearings will be limited to 10 minutes. The hearing officer may allow any speaker to provide additional oral comments after all persons wishing to comment have been heard. All comments will be formally recorded. Speakers not present when called will lose their privilege in the scheduled order and will be recalled at the end of the scheduled speakers. Speakers are encouraged to provide written versions of their oral comments, and any other additional written materials, for the hearing record.

Written comments from those unable to attend or those wishing to supplement their oral presentations at the hearings should be received by Reclamation's Albuquerque Area Office at the address given above no later than August 13, 2002, for inclusion in the hearing record. Under the NEPA process, written and oral comments received by the due date are given the same consideration.

Dated: June 7, 2002.
Connie L. Rupp,
Acting Regional Director.

[FR Doc. 02-15022 Filed 6-13-02; 8:45 am]

BILLING CODE 4310-MN-P